EXPORT-IMPORT BANK OF THE UNITED STATES

[Public Notice 61]

Agency Information Collection Activities; Comment Request

AGENCY: Export-Import Bank of the United States (Ex-Im Bank).

ACTION: Notice and request for comments.

SUMMARY: The Export-Import Bank, as a part of its continuing effort to reduce paperwork and respondent burden, invites the general public and other Federal agencies to comment on the proposed information collection as required by the Paperwork Reduction Act of 1995. The purpose of the survey is to fulfill a statutory mandate (The Export-Import Bank Act of 1945, as amended, 12 U.S.C. 635) which directs Ex-Im Bank to report annually to the U.S. Congress any action taken toward providing export credit programs that are competitive with those offered by official foreign export credit agencies. The Act further stipulates that the annual report on competitiveness should include the results of a survey of U.S. exporters and U.S. commercial lending institutions which provide export credit to determine their experience in meeting financial competition from other countries whose exporters compete with U.S. exporters.

Accordingly, Ex-Im Bank is requesting that the proposed survey (EIB N. 00-02) be sent to approximately 120 respondents that use Ex-Im Bank's medium- and long-term programs. The revised survey is similar to the previous survey, as it asks bankers and exporters to evaluate the competitiveness of Ex-Im Bank's programs vis-á-vis foreign export credit agencies. However, it has been modified in order to account for newer policies and to capture enough information to provide a better analysis of our competitiveness. In addition, the survey will be available on Ex-Im Bank's Web site, www.exim.gov, with recipients encouraged to respond on-line as well.

DATES: Written comments should be received on or before June 1, 2004, to be assured of consideration.

ADDRESSES: Direct all requests for additional information to Alan Jensen, Export-Import Bank of the U.S., 811 Vermont Avenue, NW., room 1279, Washington, DC 20571, (202) 565-3767.

SUPPLEMENTARY INFORMATION: With respect to the proposed collection of information, Ex-Im Bank invites comments as to:

—Whether the proposed collection of information is necessary for the proper performance of the functions of Ex-Im Bank, including whether the information will have a practical use;

—The accuracy of Ex-Im Bank's estimate of the burden of the proposed collection of information, including the validity of the methodology and assumptions used;

—Ways to enhance the quality, usefulness, and clarity of the information to be collected; and

—Ways to minimize the burden of collection of information on those who are to respond, including through the use of appropriate automated electronic, mechanical, or other technological collection techniques or other forms of information technology; e.g., permitting electronic submission of responses.

Title and Form Number: 2003 Exporter & Banker Survey of Ex-Im Bank Competitiveness, EIB Form 00-02.

OMB Number: 3048-0004.

Type of Review: Revision of a currently approved collection.

Annual Number of Respondents: 120.

Annual Burden Hours: 120.

Frequency of Reporting or Use: Annual Survey.

Dated: March 24, 2004.
Solomon Bush,
Agency Clearance Officer.

BILLING CODE 6690-01-M

[FR Doc. 04-6990 Filed 3-30-04; 8:45 am]

BILLING CODE 6690-01-C